DEPARTMENT OF DEFENSE

National Geospatial-Intelligence Agency

32 CFR Part 320

Privacy Act; Implementation

CFR Correction

In Title 32 of the Code of Federal Regulations, Parts 191 to 399, revised as of July 1, 2009, on page 912, revise the heading of part 320 to read as set forth below, and on page 914, in § 320.5, in paragraph (b)(2), revise “NIMA” to read “NGA”.

PART 320—NATIONAL GEOSPATIAL-INTELLIGENCE AGENCY (NGA) PRIVACY

[FR Doc. 2010-14884 Filed 6-17-10; 8:45 am]

BILLING CODE 1505-01-D